DEPARTMENT OF ENERGY

Federal Energy Regulatory Commission

[Project No. 3211-010]

Power Authority of New York; Notice of Application Tendered for Filing With the Commission and Establishing Procedural Schedule for Licensing and Deadline for Submission of Final Amendments

Take notice that the following hydroelectric application has been filed with the Commission and is available for public inspection.

a. Type of Application: New Major License.

b. Project No.: 3211-010.

c. Date Filed: July 31, 2020.

d. Applicant: Power Authority of the State of New York (Power Authority or NYPA).

e. Name of Project: Hinckley (Gregory B. Jarvis) Hydroelectric Project.

f. Location: The existing project is located on West Canada Creek, a tributary of the Mohawk River, at the Hinckley Reservoir dam, approximately 0.5 mile upstream of the Hamlet of Hinckley in the counties of Oneida and Herkimer, New York. The project does not occupy federal land.

g. Filed Pursuant to: Federal Power Act, 16 U.S.C. 791(a)-825(r).

h. Applicant Contact: Cindy Brady, New York Power Authority, 123 Main Street, White Plains, NY 10601; (914) 287-3153; Cynthia.Brady@nypa.gov.

i. FERC Contact: Emily Carter, (202) 502-6512 or emily.carter@ferc.gov.

j. This application is not ready for environmental analysis at this time.

k. Project Description: The existing Gregory B. Jarvis Project consists of: (1) A 570-foot-long, 53-foot-high north embankment dam; (2) a 2,600-foot-long south embankment dam; (3) a 400-foot-long ogee-type, cyclopean concrete spillway with a crest elevation of 1,225 feet; ¹ (4) a 65-foot-long, 82-foot-high non-overflow cyclopean concrete intake structure with the top at 1,240 feet; (5) intake structure trash racks with 5.375-inch clear-spacing; (6) a 15-foot-diameter penstock, which bifurcates into two 90-foot-long, 10.5-foot-diameter penstocks; (7) two 3-foot by 4-foot gate valves that lead to a 42-inch-diameter sluice gate; (8) a 120-foot-long, 55-foot-wide, 43-foot-high semi-underground powerhouse located 200 feet downstream of the non-overflow intake structure; (9) two 4.5-megawatt (MW) horizontal Kaplan turbine-generator units; (10) an underground transformer; (11) a 280-foot-long tailrace; (12) a 60-inch-diameter water pipe used as a low-level outlet; (13) two 4.16-kilovolt (kV) generator leads routed 50-feet underground to an aboveground NYPA-owned 46-kV/4.16-kV step-up transformer; (14) an approximately 300-foot-long, 46-kV underground transmission line; and (15) appurtenant facilities.

¹ All elevations are referenced to the Hinckley Datum. Elevations referenced to the Hinckley Datum are 1.04 feet higher than elevations referenced to the National Geodetic Vertical Datum [NGVD29 or mean sea level (msl)], thus, 1,225.0 Hinckley Datum corresponds to 1,223.96 feet NGVD29 or msl.

The Gregory B. Jarvis Project takes advantage of the releases prescribed by the New York State Canal Corporation (NYS Canal Corp) in accordance with the 2012 Hinckley Reservoir Operating Diagram to generate power. Project operation is adjusted on a twice-weekly basis. NYPA does not deviate from the operating diagram unless directed to do so by the NYS Canal Corp. Reservoir levels are maintained between 1,195 feet and 1,225 feet (the elevation of the spillway crest); however, reservoir water levels can fall below 1,195 feet during a dry season. The Jarvis Project does not operate when reservoir levels are below 1,195 feet.

The project has two horizontal Kaplan units which are each capable of operating between 300 and 900 cubic feet per second (cfs) for a total hydraulic capacity of 1,800 cfs under normal operating conditions. At flows within the operating range of the units (300 to 1,800 cfs), the project provides outflow via generation. At flows below 300 cfs, or when the reservoir water surface elevation is below 1,195 feet, the project does not operate. During these conditions, the low-level sluice gate no. 4 is used to pass a minimum flow of 160 cfs. At flows greater than 1,800 cfs, and when the reservoir water surface elevation is greater than 1,225 feet, downstream releases are passed via a combination of generation and spillage.

NYPA occasionally operates the project in peaking mode. When NYPA is peaking, it will average the outflow required by the operating diagram over the course of the day. When operated in this manner, the project generates with a lower outflow during non-peak demand periods and then generates with a higher outflow during peak demand periods such that the total daily average flow is equal to the outflow prescribed by the operating diagram.

l. In addition to publishing the full text of this document in the Federal Register, the Commission provides all interested individuals an opportunity to view and/or print the contents of this document via the internet through the Commission's Home Page (www.ferc.gov) using the “eLibrary” link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659. The application can also be found on the applicant's website (http://www.nypa.gov/jarvis).

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | September 2020.
Filing of recommendations, preliminary terms and conditions, and fishway prescriptions | November 2020.
Commission issues draft Environmental Assessment (EA) | July 2021.
Comments on draft EA | August 2021.
Modified Terms and Conditions | October 2021.
Commission issues final EA | January 2022.

o. Final amendments to the application must be filed with the Commission no later than 30 days from the issuance date of the notice of ready for environmental analysis.

Dated: August 14, 2020.
Kimberly D. Bose,
Secretary.

[FR Doc. 2020-18265 Filed 8-19-20; 8:45 am]

BILLING CODE 6717-01-P